DEPARTMENT OF TRANSPORTATION

Office of the Secretary

Notice of Applications for Certificates of Public Convenience and Necessity and Foreign Air Carrier Permits Filed Under Subpart B (formerly Subpart Q) during the Week Ending February 29, 2008

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0084.

Date Filed: February 25, 2008.

Due Date for Answers, Conforming Applications, or Motion to Modify Scope: March 17, 2008.

Description: Application of Pinnacle Airlines, Inc., requesting a certificate of public convenience and necessity to engage in scheduled foreign air transportation of persons, property, and mail between (i) a point or points in the United States and a point or points in all countries with existing “Open Skies” Air Services Agreements with the United States (“U.S. open-skies partners”), via intermediate points and beyond; and (ii) a point or points in the United States and a point or points in all countries that in the future become U.S. Open-skies partners, via intermediate points and beyond.

Docket Number: DOT-OST-2008-0072.

Date Filed: February 26, 2008.

Due Date for Answers, Conforming Applications, or Motion to Modify Scope: March 18, 2008.

Description: Application of Air One S.p.A., requesting a foreign air carrier permit to engage in scheduled foreign air transportation of persons, property, and mail between any point or points in the European Union and any point or points in the United States.

Docket Number: DOT-OST-2007-0075.

Date Filed: February 26, 2008.

Due Date for Answers, Conforming Applications, or Motion to Modify Scope: March 18, 2008.

Description: Application of NEOS S.p.A., requesting an expedited exemption and a foreign air carrier permit authorizing (i) foreign charter air transportation of persons, property, and mail between any point in the United States and any point in the European common Aviation Area; (ii) foreign charter air transportation of persons, property, and mail from any point or points behind any European Union Member State via any point or points in a European Union Member State, and via any intermediate point, to any point or points in the United States and beyond; and (iii) any other charters that may be authorized in the future under a U.S.-E.U. Agreement, or pursuant to the prior approval requirements of Part 212.

Docket Number: DOT-OST-2008-0074.

Date Filed: February 26, 2008.

Due Date for Answers, Conforming Applications, or Motion to Modify Scope: March 18, 2008.

Description: Application of Titan Airways Limited, requesting a foreign air carrier permit to the full extent authorized by the Air Transport Agreement between the United States and the European Community and the Member States of the European Community to enable it to engage in (i) foreign charter air transportation of persons, property, and mail from any point or points behind any Member State of the European Union via any point or points in any Member State and via intermediate points to any point or points in the United States and beyond; (ii) foreign charter air transportation of persons, property, and mail between any point or points in the United States and any point or points in any member of the European Common Aviation Area; (iii) foreign charter cargo air transportation between any point or points in the United States and any other point or points; (iv) other charters pursuant to the prior approval requirements set forth in Part 212 of the Department's Economic Regulations; and (v) transportation authorized by any additional route rights made available to European Community carriers in the future. Titan requests a corresponding exemption necessary to enable it to provide the services described above pending issuance of a foreign air carrier permit and such additional or other relief as the Department may deem necessary or appropriate.

Renee V. Wright,
Program Manager, Docket Operations, Federal Register Liaison.

[FR Doc. E8-13357 Filed 6-12-08; 8:45 am]

BILLING CODE 4910-9X-P